DEPARTMENT OF HEALTH AND HUMAN SERVICES

Administration for Children and Families

Submission for OMB Review: Strengthening Child Welfare Systems To Achieve Expected Child and Family Outcomes Evaluation (New Collection)

AGENCY: Children's Bureau, Administration for Children and Families, United States Department of Health and Human Services.

ACTION: Request for public comments.

SUMMARY: The Children's Bureau, Administration for Children and Families (ACF), U.S. Department of Health and Human Services, is proposing to collect data for a new process and outcome study, Strengthening Child Welfare Systems to Achieve Expected Child and Family Outcomes (SCWS) Evaluation.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The SCWS study will collect information to understand (1) implementation processes and the impact of grant interventions and (2) examine whether and the degree to which grant recipients were able to address common Child and Family Services Reviews (CFSR) outcomes. Proposed data sources for this effort include one survey and one focus group. The survey will gather information to understand the factors that supported or hindered implementation, as well as assess collaboration efforts and the intended impact of grant interventions. The focus groups will gather information to understand implementation of SCWS strategies and interventions, successes and challenges, and the perceived effect of the strategies on short and long-term child welfare outcomes, with specific attention to CFSR outcomes related to permanency.

Respondents: Respondents will include grant recipient staff, evaluators, and community partners.

Annual Burden Estimates
Instrument | Total number of respondents | Total number of responses per respondent | Average burden hours per response | Total/annual burden hours
SCWS web-based survey | 60 | 1 | 0.5 | 30
SCWS focus group | 30 | 1 | 1.5 | 45

Estimated Total Annual Burden Hours: 75.

Authority: Title II, section 203(b)(4) of the Child Abuse Prevention and Treatment and Adoption Reform Act of 1978 (42 U.S.C. 5113(b)(4)).

Mary B. Jones,
ACF/OPRE Certifying Officer.

[FR Doc. 2023-19775 Filed 9-12-23; 8:45 am]

BILLING CODE 4184-29-P